DEPARTMENT OF HEALTH AND HUMAN SERVICES

Centers for Disease Control and Prevention

[60Day-09-09AW]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Measuring Preferences for Quality of Life for Child Maltreatment—New—National Center for Injury Prevention and Control (NCIPC), Division of Violence Prevention (DVP), Centers for Disease Control and Prevention (CDC).

Background and Brief Description

The CDC requests approval of a study and subsequent survey fielding to measure the quality-of-life (QoL) impacts resulting from child maltreatment (CM) using a quantitative, preference-based approach. The U.S. Department of Health and Human Services, among many others, has identified child maltreatment as a serious U.S. public health problem with substantial long-term physical and psychological consequences. Despite considerable research on the consequences of CM in adult survivors, few studies have utilized standard QoL techniques and none have quantified childhood QoL impacts. This gap in the literature means the full QoL burden of CM has not been measured inhibiting the evaluation and comparison of CM intervention programs. This study will improve public health knowledge and economic evaluation of the QoL impacts of physical and sexual CM, including effects specific to juvenile and adolescent survivors, through the development and fielding of a preference-based survey instrument.

CDC has contracted with RTI International to develop and field a survey instrument to measure the QoL impacts of child maltreatment. RTI will develop the instrument based on standardized QoL methods, existing instruments, a literature review of CM outcomes, and qualitative research techniques. The final instrument will be fielded to a national sample and data analyzed to measure the impacts of CM. Survey development will include interviews with both clinician proxies for adolescent survivors and CM survivors, as well as focus groups with same-sex adult CM survivors.

The instrument will be pretested to an online national sample of all U.S. adults. After pretesting, the final survey will be fielded to a nationally-representative sample of 2000 U.S. adults. The survey will focus on QoL measures of preferences and contain limited questions on past CM exposure to identify possible CM survivors. The national sample will be representative of the U.S. population and include a significant number of CM survivors so that preferences can be estimated separately based on past CM exposure.

Final results will provide an estimate of the quality-of-life burden of child maltreatment in the United States. Analysis and results of the survey data will be used to inform the public health community of the impact of CM, and to evaluate and compare CM intervention programs.

There are no costs to respondents other than their time.

Estimated Annualized Burden Hours
Type of respondent | Form | No. of respondents | No. of responses per respondent | Average burden per response (in hours) | Total burden (in hours)
Same-sex adult CM survivors | Focus groups | 50 | 1 | 1.5 | 75
U.S. Adults | Pretest interviews | 15 | 1 | 1.5 | 23
| Pilot Instrument | 100 | 1 | 20/60 | 34
| National Sample | 2000 | 1 | 20/60 | 667
Clinicians | In-depth interviews | 15 | 1 | 1 | 15
Total |  |  |  |  | 814

Dated: February 13, 2009.
Maryam I. Daneshvar,
Acting Reports Clearance Officer, Centers for Disease Control and Prevention.

[FR Doc. E9-4000 Filed 2-24-09; 8:45 am]

BILLING CODE 4163-18-P